ENVIRONMENTAL PROTECTION AGENCY

40 CFR Part 271

[FRL-6888-7]

Arizona: Final Authorization of State Hazardous Waste Management Program Revisions

AGENCY: Environmental Protection Agency (EPA).

ACTION: Immediate final rule.

SUMMARY: Arizona has applied to EPA for final authorization of the changes to its hazardous waste program under the Resource Conservation and Recovery Act (RCRA). EPA has determined that these changes satisfy all requirements needed for final authorization, and is authorizing the State's changes through this immediate final action. EPA is publishing this rule to authorize the changes without a prior proposal because we believe this action is not controversial and do not expect comments that oppose it. Unless we get written comments which oppose this authorization during the comment period, the decision to authorize Arizona's changes to their hazardous waste program will take effect as provided below. If we get comments that oppose this action, we will publish a document in the Federal Register withdrawing this rule before it takes effect. A Notice of Proposed Rulemaking is published in this Federal Register which authorizes the incorporation of responses to comments or changes to the Final Rule.

DATES: This final authorization will become effective on December 26, 2000 unless EPA receives adverse written comment by November 27, 2000. If EPA receives such comment, it will publish a timely withdrawal of this immediate final rule in the Federal Register and inform the public that this authorization will not take effect.

ADDRESSES: Send written comments to Lisa McClain-Vanderpool, U.S. EPA, Waste Management Division, 75 Hawthorne Street, (mailcode WST-3), San Francisco, CA 94105. Copies of the Arizona program revision application and the materials which EPA used in evaluating the revisions are available for inspection and copying from 9:00-4:00 at the following addresses: Arizona Department of Environmental Quality, 3033 North Central Avenue, Phoenix, AZ 85012 and U.S. EPA Region 9, Library, 75 Hawthorne Street, 13th Floor, San Francisco, CA 94105; phone (415) 744-1510.

FOR FURTHER INFORMATION CONTACT: Lisa McClain-Vanderpool at (415) 744-2086.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in this Rule?

We conclude that Arizona's application to revise its authorized program meets all of the statutory and regulatory requirements established by RCRA. Therefore, we grant Arizona final authorization to operate its hazardous waste program with the changes described in the authorization application. Arizona has responsibility for permitting Treatment, Storage, and Disposal Facilities (TSDFs) within its borders (except in Indian Country) and for carrying out the aspects of the RCRA program described in its revised program application, subject to the limitations on its authority retained by EPA in accordance with RCRA, including the Hazardous and Solid Waste Amendments of 1984 (HSWA). New federal requirements and prohibitions imposed by Federal regulations that EPA promulgates under the authority of HSWA take effect in authorized States before they are authorized for such requirements and prohibitions. Thus, EPA will implement those requirements and prohibitions in Arizona, including issuing permits, until the State is granted authorization to do so.

C. What Is the Effect of Today's Authorization Decision?

The effect of this decision is that a facility in Arizona subject to RCRA will now have to comply with the authorized State requirements instead of the equivalent federal requirements in order to comply with RCRA. Arizona continues to have enforcement responsibilities under its state law to pursue violations of its hazardous waste program. EPA continues to have independent authority under RCRA sections 3007, 3008, 3013, and 7003, which include, among others, the authority to:

• Do inspections, and require monitoring, tests, analyses or reports;

• Enforce RCRA requirements (including state-issued statutes and regulations that are authorized by EPA and any applicable federally-issued statutes and regulations) and suspend or revoke permits; and

• Take enforcement actions regardless of whether the State has taken its own actions.

This action does not impose additional requirements on the regulated community because the regulations for which Arizona is being authorized by today's action are already effective, and are not changed by today's action.

D. Why Wasn't There a Proposed Rule Before Today's Rule?

EPA did not publish a proposal before today's rule because we view this as a routine program change and do not expect comments that oppose this approval. We are providing an opportunity for public comment now. In addition to this rule, in the proposed rules section of today's Federal Register we are publishing a separate document that proposes to authorize the state program changes.

E. What Happens If EPA Receives Comments That Oppose This Action?

If EPA receives comments that oppose this authorization, we will withdraw this rule by publishing a document in the Federal Register before the rule becomes effective. EPA will base any further decision on the authorization of the state program changes on the proposal mentioned in the previous paragraph. We will then address all public comments in a later final rule. You may not have another opportunity to comment. If you want to comment on this authorization, you must do so at this time. If we receive comments that oppose only the authorization of a particular change to the State hazardous waste program, we will withdraw that part of this rule but the authorization of the program changes that the comments do not oppose will become effective on the date specified above. The Federal Register withdrawal document will specify which part of the authorization will become effective, and which part is being withdrawn.

F. What Has Arizona Previously Been Authorized For?

Arizona initially received Final Authorization on November 20, 1985 to implement its base hazardous waste management program. Arizona received authorization for revisions to its program on August 6, 1991, July 13, 1992, November 23, 1992, October 27, 1993, June 12, 1995, May 6, 1997 and October 28, 1998 (63 FR 57605-57608 effective December 28, 1998).

Subsequent of these authorizations the State of Arizona has revised its hazardous waste program, making conforming changes to its regulations in line with the Federal requirements. The EPA has reviewed these changes and has made an immediate final decision, subject to receipt of adverse comment, that Arizona's hazardous waste program revisions satisfy all of the requirements necessary to qualify for final authorization. Consequently, EPA intends to grant final authorization for these revisions.

G. What Changes Are We Authorizing With Today's Action?

On May 25, 2000, Arizona submitted a final complete program revision application, seeking authorization of their changes in accordance with 40 CFR 271.21. We now make an immediate final decision, subject to receipt of written comments that oppose this action, that Arizona's hazardous waste program revision satisfies all of the requirements necessary to qualify for final authorization. These provisions are analogous to the indicated RCRA statutory provisions or Federal RCRA regulations as of September 9, 1998. The Arizona provisions are from the RCRA Cluster VII and VIII hazardous waste regulations unless otherwise stated. Therefore, upon authorization, the following Arizona hazardous waste requirements that are either equivalent or more stringent than the corresponding federal requirements will apply in lieu of the federal requirements:

State requirement | Federal requirement
A.A.C. R18-8-268 amended June 4, 1998 | Land Disposal Restrictions Phase III—Emergency Extension of the K066 Capacity Variance; 62 FR 1992, January 14, 1997. (HSWA) (Checklist 155).
A.A.C. R-18-8-8-260.A, B, C, E & F; R-18-8-261.A & B; R-18-8-262.A & B; R-18-8-263.A; R-18-8-264.A & C; R-18-8-265.A & C; R-18-8-266.A; R-18-8-270.A & C; all amended June 4, 1998 | Military Munitions Rule 62 FR 6622, February 12, 1997. (HSWA) (Checklist 156).
A.A.C. R18-8-261.A & B and A.A.C. R18-8-268, amended June 4, 1998 | Land Disposal Restrictions—Phase IV 62 FR 25988, May 12, 1997. (HSWA) (Checklist 157).
A.A.C. R18-8-260.A, B& C; R-18-8-264.A; R-18-8-266.A, amended June 4, 1998 | Testing and Monitoring Activities Amendment III 62 FR 32452, June 13, 1997. (Non-HSWA) (Checklist 158)
A.A.C. R18-8-261.A & B; A.A.C. R18-8-268, amended June 4, 1998 | Conformance with Carbamate Vacatur 62 FR 32974, June 17, 1997. (HSWA) (Checklist 159)
A.A.C. R18-8-268, amended November 15, 1999 | Land Disposal Restrictions—Phase III—Emergency Extension of the K088 Capacity Variance, Amendment (HSWA) 62 FR 37694, July 14, 1997. (Checklist 160) Emergency Revision of the Carbamate Land Disposal Restrictions, 62 FR 45568, August 28, 1997. (HSWA) (Checklist 161) Clarification of Standards for Hazardous Waste LDR Treatment Variances, 62 FR 64504, December 5, 1997 (HSWA) (Checklist 162).
A.A.C. R18-8-264.A, R18-8-265.A and R18-8-270.A, amended November 15, 1999 | Organic Air Emission Standards for Tanks, Surface Impoundments, and Containers; Classification and Technical Amendment, 62 FR 64636, December 8, 1997 (HSWA) (Checklist 163).
A.A.C. R18-8-261.A & B, amended November 15, 1999 | Kraft Mill Steam Stripper Condensate Exclusion, 63 FR 18504, April 15, 1998 (Non-HSWA) (Checklist 164).
A.A.C. R18-8-261 A&b, R18-8-268, amended November 15, 1999 However, Arizona is not currently incorporating the mineral processing secondary materials exclusion portion of this rule (Checklist 167 D) | Land Disposal Restrictions Phase IV—Treatment Standards Metal Wastes and Mineral Processing Wastes; Hazardous Soils Treatment Standards and Exclusions; Corrections; Bevill Exclusion Revisions and Clarifications; Exclusion of Recycled Wood Preserving Waste Waters, 63 FR 28556, May 26, 1998 (HSWA/Non-HSWA) (Checklists 167 A, B, C, E and F).
A.A.C. R18-8-261 A&B, R18-8-270.A, amended November 15, 1999 | Hazardous Waste Combustors; Revised Standards, 63 FR 33782, June 19, 1998 (Non-HSWA) (Checklist 168).
A.A.C. R18-8-268, amended November 15, 1999 | Land Disposal Restrictions Phase IV—Zinc Micronutrient Fertilizer, Administrative Stay, 63 FR 46332, August 31, 1998 (HSWA) (Checklist 170). Emergency Revision of the Land Disposal Restrictions Treatment Standards for Listed hazardous Waste from Carbamate Production, 63 FR 47410, September 4, 1998 (HSWA) (Checklist 171). Land Disposal Restrictions Phase IV—Extension of Compliance Date for Characteristics Slags, September 9, 1998 (HSWA) (Checklist 172).

H. Where Are the Revised State Rules Different From the Federal Rules?

Arizona has adopted in whole the Federal revisions cited above. There are no significant differences between the Federal rules and the revised State rules being authorized today.

I. Who Handles Permits After the Authorization Takes Effect?

Arizona will issue permits for all the provisions for which it is authorized and will administer the permits it issues. ADEQ and EPA have agreed to a joint permitting process for RCRA permits for those provisions of HSWA for which ADEQ does not have authorization. As ADEQ receives authorization for additional provision of HSWA, EPA will suspend issuance of Federal permits in the state related to those provisions.

Whenever EPA adopts standards under HSWA for activities or wastes not currently covered by the authorized program, EPA may process RCRA permits in the State for the new or revised HSWA processes until ADEQ has received final authorization for the new or revised HSWA standards. At the time the ADEQ program is authorized for the new or revised HSWA standards, EPA will suspend any permitting activities in those areas. EPA will also transfer any pending permit applications, completed permits or pertinent file information to ADEQ within thirty days of the authorization of new or revised elements of the ADEQ program.

J. How Does Today's Action Affect Indian Country (18 U.S.C. 115) in Arizona?

Arizona is not authorized to carry out its hazardous waste program in Indian Country within the State, which includes the Ak Chin Indian Community of Papago Indians, Cocopah Tribe of Arizona, Fort McDowell Mohave-Apache Indian Community, Gila River Pima-Maricopa Indian Community, Havasupai Tribe, Hopi Tribe of Arizona, Hualapai Indian Tribe, Kaibab Band of Paiute Indians, Pascua Yaqui Tribe of Arizona, Salt River Pima-Maricopa Indian Community, San Carlos Apache Tribe, San Juan Southern Paiute Tribe, Tohono O'odham Nation, Tonto Apache Tribe, White Mountain Apache Tribe of Fort Apache Reservation, Yavapai-Apache Nation of Camp Verde Reservation, Yavapai-Prescott Tribe, Colorado River Indian Tribes, Navajo Nation and Fort Mojave Indian Tribe. Therefore, this action has no effect on Indian Country. EPA will continue to implement and administer the RCRA program in these lands.

K. What Is Codification and Is EPA Codifying Arizona's Hazardous Waste Program As Authorized in This Rule?

Codification is the process of placing the State's statutes and regulations that comprise the State's authorized hazardous waste program into the Code of Federal Regulations. We do this by referencing the authorized State rules in 40 CFR part 272. We reserve the amendment of 40 CFR part 272, subpart D for authorization of Arizona's program changes until a later date.

L. Administrative Requirements

The Office of Management and Budget has exempted this action from the requirements of Executive Order 12866 (58 FR 51735, October 4, 1993), and therefore this action is not subject to review by OMB. This action authorizes state requirements for the purpose of RCRA section 3006 and imposes no additional requirements beyond those imposed by state law. Accordingly, I certify that this action will not have a significant economic impact on a substantial number of small entities under the Regulatory Flexibility Act (5 U.S.C. 601 et seq.). Because this action authorizes pre-existing requirements under state law and does not impose any additional enforceable duty beyond that required by state law, it does not contain any unfunded mandate or significantly or uniquely affect small governments, as described in the Unfunded Mandates Reform Act of 1995 (Pub. L. 104-4). For the same reason, this action also does not significantly or uniquely affect the communities of tribal governments, as specified by Executive Order 13084 (63 FR 27655, May 10, 1998). This action will not have substantial direct effects on the States, on the relationship between the national government and the States, or on the distribution of power and responsibilities among the various levels of government, as specified in Executive Order 13132 (64 FR 43255, August 10, 1999), because it merely authorizes state requirements as part of the State RCRA hazardous waste program without altering the relationship or the distribution of power and responsibilities established by RCRA. This action also is not subject to Executive Order 13045 (62 FR 19885, April 23, 1997), because it is not economically significant and it does not make decisions based on environmental health or safety risks.

Under RCRA section 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the Attorney General's Supplemental Guidelines for the Evaluation of Risk and Avoidance of Unanticipated Takings issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective December 26, 2000.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006 and 7004(b) of the Solid Waste Disposal Act as amended 42 U.S.C. 6912(a), 6926, 6974(b).

Dated: September 27, 2000.
Felicia Marcus,
Regional Administrator, Region 9.

[FR Doc. 00-27142 Filed 10-26-00; 8:45 am]

BILLING CODE 6560-50-P